ENVIRONMENTAL PROTECTION AGENCY

Tifton Property Site Lakeland, Florida; Notice of Proposed Settlement

AGENCY: Environmental Protection Agency.

ACTION: Notice of Proposed Settlement.

SUMMARY: Under sections 104, 106(a), 107 and 122 of the Comprehensive Environmental Response, Compensation, and Liability Act (CERCLA), the Environmental Protection Agency (EPA) entered into an Administrative Order on Consent for Removal Action (AOC) with Shell Oil Company, Hercules Incorporated, and Bob W. Stanley Trust (Respondents). Section XV of the AOC provides for the reimbursement of EPA's past and future response costs by the Respondents. EPA will consider public comments on section XV, paragraph 49 of the AOC until May 12, 2004. EPA may withhold consent to all or part of section XV, paragraph 49 of the AOC if comments received disclose facts or considerations which indicate that this part of the AOC is inappropriate, improper, or inadequate. Copies of the proposed settlement are available from: Ms. Paula V. Batchelor, U.S. Environmental Protection Agency, Region IV, Superfund Enforcement & Information Management Branch, Waste Management Division, 61 Forsyth Street, SW., Atlanta, Georgia 30303. Batchelor.Paula@epa.gov; (404) 562-8887.

Written comments may be submitted to Paula V. Batchelor at the above address within 30 days of the date of publication.

Dated: March 31, 2004.
Rosalind H. Brown,
Chief, Superfund Enforcement & Information Management Branch, Waste Management Division.

[FR Doc. 04-8226 Filed 4-9-04; 8:45 am]

BILLING CODE 6560-50-M